DEPARTMENT OF HOMELAND SECURITY

U.S. Citizenship and Immigration Services

Agency Information Collection Activities: Extension of a Currently Approved Information Collection; Comment Request

ACTION: 30-day notice of information collection under review: Immigration User Fee, File No. OMB-01.

The Department of Homeland Security, U.S. Citizenship and Immigration Services (USCIS) has submitted the following information collection quest to the Office of Management and Budget (OMB) for review and clearance in accordance with the Paperwork Reduction Act of 1995. The information collection was previously published in the Federal Register on February 28, 2005 at 70 FR 9665, allowed for a 60-day public comment period. No comments were received by the USCIS on this information collection.

The purpose of this notice is to allow an additional 30 days for public comments. Comments are encouraged and will be accepted until May 31, 2005. This process is conducted in accordance with 5 CFR 1320.10.

Written comments and suggestions from the public and affected agencies concerning the collection of information should address one or more of the following four points:

(1) Evaluate whether the collection of information is necessary for the proper performance of the functions of the agency, including whether the information will have practical utility;

(2) Evaluate the accuracy of the agencies estimate of the burden of the collection of information, including the validity of the methodology and assumptions used;

(3) Enhance the quality, utility, and clarity of the information to be collected; and

(4) Minimize the burden of the collection of information on those who are to respond, including through the use of appropriate automated, electronic, mechanical, or other technological collection techniques, or other forms of information technology, e.g., permitting electronic submission of responses.

Overview of this information collection:

(1) Type of Information Collection: Extension of a currently approved collection.

(2) Title of the Form/Collection: Immigration User Fee.

(3) Agency form number, if any, and the applicable component of the Department of Homeland Security sponsoring the collection: No Agency Form Number (File No. OMB-1). U.S. Citizenship and Immigration Services.

(4) Affected public who will be asked or required to respond, as well as a brief abstract: Primary: Business or other for-profit. The information requested from commercial air carriers, commercial vessel operators, and tour operators is necessary for effective budgeting, financial management, monitoring, and auditing of User Fee collections.

(5) An estimate of the total number of respondents and the amount of time estimated for an average respondent to respond: 325 responses at 15 minutes (.25) per response for reporting, in addition to 25 respondents at 10 hours per response for recordkeeping.

(6) An estimate of the total public burden (in hours) associated with the collection: 331 annual burden hours.

If you have additional comments, suggestions, or need a copy of the information collection instrument with instructions, please contact Richard A. Sloan, Director, Regulatory Management Division, U.S. Citizenship and Immigration Services, 111 Massachusetts Avenue, NW., Washington, DC 20529; 202-272-8377.

Dated: March 29, 2005.
Richard A. Sloan,
Director, Regulatory Management Division, U.S. Citizenship and Immigration Services.

[FR Doc. 05-8294 Filed 4-28-05; 8:45 am]

BILLING CODE 4410-10-M